Title 3—

The President

Proclamation 7429 of April 25, 2001

Loyalty Day, 2001

By the President of the United States of America

A Proclamation

Two hundred and twenty-five years ago, America's founders faced a decisive crossroads. Thomas Jefferson later remembered “the bold and doubtful election we were to make for our country, between submission or the sword.” They chose the sword, and a Nation was born.

Today, we celebrate our loyalty to this country and to the principles for which America stands. Americans demonstrate their dedication by protecting our Nation and its people, promoting our commonly held ideals, and passing these values on to future generations.

Many Americans display their loyalty through careers in public service. Members of our Armed Forces ensure that our Nation remains strong and secure, as well as defend democracy around the world. Domestically, law enforcement officers and the professionals working in our judicial system maintain the peace and uphold the rule of law on which our society depends. Countless other Americans also work to protect us from dangers that threaten our safety and resources.

Americans have not let the dream of “a more perfect Union” fade with the passing of time. Rather, each new generation, along with millions of immigrants, has promoted ideals that lead to the archetype that the founders envisioned. Heroes have risen to fight for freedom, abolition of slavery, universal suffrage, civil rights, and other principles that form the foundation of our Nation. Today, citizens across the country continue this tradition by giving their time and effort to causes greater than themselves. Whether through charitable, civic, or church activities, Americans demonstrate their loyalty by working to improve our country and the lives of its people.

Perhaps the most basic and important means by which we display loyalty to our country is by passing on to our children the hope and idealism that is an important part of the American spirit. Parents have the important task in ensuring that our Nation's future leaders are prepared to assume the responsibilities they will face. Teachers play essential roles in molding our young people, and they deserve our gratitude and respect for their dedication. Ministers and other mentors also give of themselves by introducing children to the vast opportunities that our Nation holds. By spending time with a child, Americans invest in the future of our country.

Loyalty Day recognizes the solemn bond between America and its citizens. It provides an opportunity to recognize those who demonstrate their loyalty every day and challenges all of us to find more ways to contribute to the greater good of our country.

The Congress, by Public Law 85-529, has designated May 1 of each year, as “Loyalty Day,” and I encourage all Americans to join me this day in reaffirming our allegiance to our blessed Nation.

NOW, THEREFORE, I, GEORGE W. BUSH, President of the United States of America, by virtue of the authority vested in me by the Constitution and laws of the United States of America, do hereby proclaim May 1, 2001, as Loyalty Day. I call upon all the people of the United States in support of this national observance.

IN WITNESS WHEREOF, I have hereunto set my hand this twenty-fifth day of April, in the year of our Lord two thousand one, and of the Independence of the United States of America the two hundred and twenty-fifth.

B

[FR Doc. 01-10935

Filed 4-27-01; 8:45 am]

Billing code 3195-01-P